DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Florida: St. Johns (FEMA Docket No.: B-1317) | Unincorporated areas of St. Johns County (13-04-1159P) | Mr. Michael D. Wanchick, St. Johns County Administrator, 500 San Sebastian View, St. Augustine, FL 32084 | St. Johns County Administrative Building, 4020 Lewis Speedway, St. Augustine, FL 32084 | July 11, 2013 | 125147
New Jersey: Morris (FEMA Docket No.: B-1318) | Township of Hanover (12-02-1077P) | The Honorable Ronald F. Francioli, Mayor, Township of Hanover, 1000 Route 10, Whippany, NJ 07981 | Hanover Township Engineering Department, 1000 Route 10, Whippany, NJ 07981 | July 25, 2013 | 340343
New York:
Nassau (FEMA Docket No.: B-1313) | Town of Hempstead (12-02-1677P) | The Honorable Kate P. Murray, Supervisor, Town of Hempstead, 1 Washington Street, Hempstead, NY 11550 | Town Hall, 1 Washington Street, Hempstead, NY 11550 | July 16, 2013 | 360467
Nassau (FEMA Docket No.: B-1313) | Village of Cedarhurst (12-02-1677P) | The Honorable Andrew J. Parise, Mayor, Village of Cedarhurst, 200 Cedarhurst Avenue, Cedarhurst, NY 11516 | Village Hall, 200 Cedarhurst Avenue, Cedarhurst, NY 11516 | July 16, 2013 | 360460
Nassau (FEMA Docket No.: B-1313) | Village of Lynbrook (12-02-1677P) | The Honorable William J. Hendrick, Mayor, Village of Lynbrook, P.O. Box 7021, Lynbrook, NY 11563 | Village Hall, 1 Columbus Drive, Lynbrook, NY 11563 | July 16, 2013 | 360478
Nassau (FEMA Docket No.: B-1313) | Village of Valley Stream (12-02-1677P) | The Honorable Edwin A. Fare, Mayor, Village of Valley Stream, 123 South Central Avenue, Valley Stream, NY 11580 | Village Hall, 123 South Central Avenue, Valley Stream, NY 11580 | July 16, 2013 | 360495
Orange (FEMA Docket No.: B-1313) | Town of Newburgh (12-02-0928P) | The Honorable Wayne Booth, Supervisor, Town of Newburgh, 1496 Route 300, New York, NY 12550 | Code Compliance Department, 308 Gardnertown Road, Newburgh, NY 12550 | July 16, 2013 | 360627
Oklahoma:
Oklahoma (FEMA Docket No.: B-1317) | City of Oklahoma City (12-06-2435P) | The Honorable Mick Cornett, Mayor, City of Oklahoma City, 200 North Walker Avenue, 3rd Floor, Oklahoma, OK 73102 | 420 West Main Street, Suite 700, Oklahoma City, OK 73102 | July 11, 2013 | 405378
Oklahoma (FEMA Docket No.: B-1317) | City of Oklahoma City (12-06-3471P) | The Honorable Mick Cornett, Mayor, City of Oklahoma City, 200 North Walker Avenue, 3rd Floor, Oklahoma, OK 73102 | 420 West Main Street, Suite 700, Oklahoma City, OK 73102 | July 11, 2013 | 405378
Oklahoma (FEMA Docket No.: B-1317) | Unincorporated areas of Oklahoma County (12-06-2435P) | The Honorable Ray Vaughn, Chairman, Oklahoma County Board of Commissioners, 320 Robert S. Kerr Avenue, Suite 101, Oklahoma City, OK 73102 | Oklahoma County Courthouse, 320 Robert S. Kerr Avenue, Suite 101, Oklahoma City, OK 73102 | July 11, 2013 | 400466
Tulsa (FEMA Docket No.: B-1318) | City of Sand Springs (12-06-3836P) | The Honorable Mike Burdge, Mayor, City of Sand Springs, P.O. Box 338, Sand Springs, OK 74063 | Public Works Building, 109 North Garfield Avenue, Sand Springs, OK 74063 | July 19, 2013 | 400211
Tulsa (FEMA Docket No.: B-1318) | Unincorporated areas of Tulsa County (12-06-3836P) | The Honorable Karen Keith, Chairman, Tulsa County Board of Commissioners, 500 South Denver Avenue, Tulsa, OK 74103 | Tulsa County Annex Building, 633 West 3rd Street, Room 140, Tulsa, OK 74127 | July 19, 2013 | 400462
Texas:
Bexar (FEMA Docket No.: B-1317) | City of San Antonio (12-06-3532P) | The Honorable Julian Castro, Mayor, City of San Antonio, P.O. Box 839966, San Antonio, TX 78283 | Department of Public Works, Storm Water Engineering, 1901 South Alamo Street, 2nd Floor, San Antonio, TX 78204 | July 5, 2013 | 480045
Bexar (FEMA Docket No.: B-1318) | City of San Antonio (12-06-2419P) | The Honorable Julian Castro, Mayor, City of San Antonio, P.O. Box 839966, San Antonio, TX 78283 | Department of Public Works, Storm Water Engineering, 1901 South Alamo Street, 2nd Floor, San Antonio, TX 78204 | July 22, 2013 | 480045
Bexar (FEMA Docket No.: B-1318) | City of San Antonio (12-06-4141P) | The Honorable Julian Castro, Mayor, City of San Antonio, P.O. Box 839966, San Antonio, TX 78283 | Department of Public Works, Storm Water Engineering, 1901 South Alamo Street, 2nd Floor, San Antonio, TX 78204 | July 29, 2013 | 480045
Bexar (FEMA Docket No.: B-1318) | City of Universal City (12-06-3821P) | The Honorable John Williams, Mayor, City of Universal City, 2150 Universal City Boulevard, Universal City, TX 78148 | City Hall, 2150 Universal City Boulevard, Universal City, TX 78148 | July 15, 2013 | 480049
Bexar (FEMA Docket No.: B-1317) | Unincorporated areas of Bexar County (12-06-3532P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | July 5, 2013 | 480035
Bexar (FEMA Docket No.: B-1317) | Unincorporated areas of Bexar County (13-06-0667P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | July 11, 2013 | 480035
Bexar (FEMA Docket No.: B-1318) | Unincorporated areas of Bexar County (13-06-0666P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | July 17, 2013 | 480035
Cameron (FEMA Docket No.: B-1318) | Town of South Padre Island (12-06-3922P) | The Honorable Robert N. Pinkerton, Jr., Mayor, Town of South Padre Island, 4601 Padre Boulevard, South Padre Island, TX 78597 | 4601 Padre Boulevard, South Padre Island, TX 78597 | July 26, 2013 | 480115
Collin (FEMA Docket No.: B-1317) | City of Frisco (12-06-2227P) | The Honorable Maher Maso, Mayor, City of Frisco, 6101 Frisco Square Boulevard, 3rd Floor, Frisco, TX 75034 | 6101 Frisco Square Boulevard, 3rd Floor, Frisco, TX 75034 | July 8, 2013 | 480134
Collin (FEMA Docket No.: B-1317) | City of McKinney (12-06-2227P) | The Honorable Brian Loughmiller, Mayor, City of McKinney, 222 North Tennessee Street, McKinney, TX 75069 | 222 North Tennessee Street, McKinney, TX 75069 | July 8, 2013 | 480135
Collin (FEMA Docket No.: B-1317) | City of Plano (12-06-2231P) | The Honorable Phil Dyer, Mayor, City of Plano, 1520 Avenue K, Plano, TX 75074 | 1520 Avenue K, Plano, TX 75074 | July 5, 2013 | 480140
Dallas (FEMA Docket No.: B-1331) | City of DeSoto (12-06-3277P) | The Honorable Carl Sherman, Mayor, City of DeSoto, 211 East Pleasant Run Road, DeSoto, TX 75115 | Development Services Department, 211 East Pleasant Run Road, DeSoto, TX 75115 | June 20, 2013 | 480172
Dallas (FEMA Docket No.: B-1331) | City of Lancaster (12-06-3277P) | The Honorable Marcus E. Knight, Mayor, City of Lancaster, 211 North Henry Street, Lancaster, TX 75146 | City Hall, 211 North Henry Street, Lancaster, TX 75146 | June 20, 2013 | 480182
Dallas (FEMA Docket No.: B-1317) | Town of Sunnyvale (12-06-1197P) | The Honorable Jim Phaup, Mayor, Town of Sunnyvale, 127 North Collins Road, Sunnyvale, TX 75182 | Town Hall, 537 Long Creek Road, Sunnyvale, TX 75182 | July 12, 2013 | 480188
Kaufman (FEMA Docket No.: B-1317) | City of Dallas (12-06-1197P) | The Honorable Mike Rawlings, Mayor, City of Dallas, 1500 Marilla Street, Room 5EN, Dallas, TX 75201 | City Hall, 320 East Jefferson Boulevard, Room 321, Dallas, TX 75203 | July 12, 2013 | 480171
Parker (FEMA Docket No.: B-1318) | City of Springtown (13-06-0392P) | The Honorable Doug Hughes, Mayor, City of Springtown, 102 East 2nd Street, Springtown, TX 76082 | 102 East 2nd Street, Springtown, TX 76082 | July 25, 2013 | 480521
Parker (FEMA Docket No.: B-1318) | Unincorporated areas of Parker County (13-06-0392P) | The Honorable Mark Riley, Parker County Judge, 1 Courthouse Square, Weatherford, TX 76086 | Parker County Courthouse, 1 Courthouse Square, Weatherford, TX 76086 | July 25, 2013 | 480520
Tarrant (FEMA Docket No.: B-1324) | City of Fort Worth (12-06-3084P) | The Honorable Betsy Price, Mayor, City of Fort Worth, 1000 Throckmorton Street, Fort Worth, TX 76102 | Department of Transportation and Public Works, 1000 Throckmorton Street, Fort Worth, TX 76102 | July 11, 2013 | 480596
Virginia:
Fairfax (FEMA Docket No.: B-1317) | Town of Herndon (12-03-2159P) | The Honorable Lisa C. Merkel, Mayor, Town of Herndon, P.O. Box 427, Herndon, VA 20172 | Municipal Center, 777 Lynn Street, Herndon, VA 20170 | July 11, 2013 | 510052
Fairfax (FEMA Docket No.: B-1317) | Unincorporated areas of Fairfax County (12-03-2159P) | The Honorable Sharon Bulova, Chairman-at-Large, Fairfax County Board of Supervisors, 12000 Government Center Parkway, Suite 530, Fairfax, VA 22035 | Fairfax County Department of Public Works and Environmental Services, 12000 Government Center Parkway, Suite 449, Fairfax, VA 22035 | July 11, 2013 | 515525
Fairfax (FEMA Docket No.: B-1331) | Unincorporated areas of Fairfax County (13-03-0311P) | The Honorable Sharon Bulova, Chairman-at-Large, Fairfax County Board of Supervisors, 12000 Government Center Parkway, Suite 530, Fairfax, VA 22035 | Fairfax County Department of Public Works and Environmental Services, 12000 Government Center Parkway, Suite 449, Fairfax, VA 22035 | July 11, 2013 | 515525

(Catalog of Federal Domestic Assistance No. 97.022, “Flood Insurance.”)

Dated: August 30, 2013.
Roy E. Wright,
Deputy Associate Administrator for Mitigation, Department of Homeland Security, Federal Emergency Management Agency.

[FR Doc. 2013-23069 Filed 9-20-13; 8:45 am]

BILLING CODE 9110-12-P